DEPARTMENT OF COMMERCE

National Oceanic and Atmospheric Administration

RIN 0648-XE479

Endangered Species Act; Public Meeting

AGENCY: National Marine Fisheries Service (NMFS), National Oceanic and Atmospheric Administration (NOAA), Commerce.

ACTION: Notice of public meeting.

SUMMARY: We, NMFS, announce a public meeting of a review of our recovery program under the Endangered Species Act of 1973, as amended (ESA). The purpose of the review is to ensure that recovery program priorities and implementation are aligned with resources and mission mandates; enhance and align strategic management of NMFS regulatory programs; and provide transparency in the operation of NMFS recovery program.

DATES: The meeting will be held Tuesday April 19, 2016, through Thursday April 21, 2016, at 9 a.m.

ADDRESSES: The meeting will be held at the NOAA Science Center, 1301 East-West Highway, Silver Spring, MD 20910; phone: 301-713-1010.

FOR FURTHER INFORMATION CONTACT: Therese Conant, NMFS Office of Protected Resources, 301-427-8456.

SUPPLEMENTARY INFORMATION: Under the ESA, section 4(f) requires the Secretary to develop and implement recovery plans for the conservation and survival of endangered and threatened species. Those recovery plans must include objective, measurable criteria which, when met, would lead to a determination that the species be removed from the list, site-specific management actions necessary to achieve the plan's goal for the conservation of the species, and estimates of the time and costs to carry out the measures identified in the plan.

We currently have final recovery plans for 47 species and draft recovery plans for five species. Recovery plans are not started or are under development for 39 species. The objective of the recovery program review is to determine if the current recovery planning process results in recovery plans that are effective roadmaps for recovering the species as evidenced by whether the plans are being implemented by NMFS and stakeholders, resulting in progress towards meeting the recovery criteria so that the species may be delisted. This review will evaluate, within the context of current budget constraints, the efficacy of the recovery planning process, including the quality of the recovery plans, the implementation of recovery actions, and the monitoring of recovery progress. This review will provide recommendations to improve recovery plans and the recovery planning and implementation process to increase the likelihood of recovering species.

The meeting is open to the public all day, and the public will have an opportunity to provide verbal or written comments in one-hour sessions each day. Exact times for the public comment sessions are not known, but will be scheduled after 2 p.m. each day.

Special Accommodations

This public meeting is physically accessible to people with disabilities. Requests for sign language interpretation or other accommodations should be directed to Therese Conant (see ADDRESSES) as soon as possible, but no later than 7 business days prior to the meeting date.

Authority: 16 U.S.C. 1531 et seq.

Dated: February 29, 2016.
Angela Somma,
Chief, Endangered Species Division, Office of Protected Resources, National Marine Fisheries Service.

[FR Doc. 2016-04793 Filed 3-3-16; 8:45 am]

BILLING CODE 3510-22-P